DEPARTMENT OF ENERGY

Federal Energy Regulatory Commission

[Docket No. CP04-343-000]

Paiute Pipeline Company; Notice of Intent to Prepare an Environmental Assessment for the Proposed Paiute Wadsworth Compressor Station, Request for Comments on Environmental Issues, and Notice of Site Visit

June 23, 2004.

The staff of the Federal Energy Regulatory Commission (FERC or Commission) will prepare an environmental assessment (EA) that will discuss the environmental impacts of Paiute Pipeline Company's (Paiute) proposed Wadsworth Compressor Station Project. Paiute proposes to abandon operation and use of a liquefied natural gas (LNG) peak-shaving facility near the town of Lovelock in Pershing County, Nevada and an associated pipeline, modify existing valve assemblies, and construct and operate a new compressor station near the town of Wadsworth in Washoe County, Nevada.¹ The EA will be used by the Commission in its decision-making process to determine whether the projects are in the public convenience and necessity.

¹ Paiute's application was filed with the Commission, on May 21, 2004, under sections 7(b) and (c) of the Natural Gas Act (NGA) and part 157 of the Commission's regulations. The Commission issued a notice of the application on May 28, 2004.

This notice (NOI) is being sent to affected and adjacent landowners; Federal, State and local representatives and agencies; local newspapers and libraries; potentially interested Indian tribes; public interest and environmental groups; and parties to the proceeding. Government representatives and agencies are encouraged to notify their constituents of the proposed projects and encourage them to comment.

Additionally, with this NOI we ² are asking government agencies and tribes with jurisdiction and/or special expertise with respect to environmental issues to cooperate with us in the preparation of the EA. Agencies may choose to participate once they evaluate Paiute's proposal relative to their responsibilities. Agencies that would like to request cooperating status should follow the directions for filing comments described below.

² “We”, “us, and “our” refer to the environmental staff of the FERC's Office of Energy Projects (OEP).

If you are a landowner receiving this NOI, you may be contacted by a representative of Paiute about the acquisition of an easement to construct, operate, and maintain the proposed facilities. The company would seek to negotiate a mutually acceptable agreement. However, if the project is approved by the Commission, that approval conveys with it the right of eminent domain. Therefore, if easement negotiations fail to produce an agreement, the company could initiate condemnation proceedings in accordance with state law.

A fact sheet prepared by the FERC entitled “An Interstate Natural Gas Facility On My Land? What Do I Need To Know?” should have been attached to the project notice Paiute is required to provided to landowners. This fact sheet addresses a number of typically asked questions, including the use of eminent domain and how to participate in the Commission's proceedings. It is available for viewing on the FERC Internet Web site (http://www.ferc.gov).

Summary of the Proposed Project

Paiute seeks authority to:

• Abandon operation, use, and storage services at the H.G. Laub LNG facility near Lovelock, in Pershing County, Nevada, at about milepost (MP) 164.4 along Paiute's mainline, which it leases from Public Service Resources Corporation (PSRC);

• Abandon operation and use of 61.1 miles of 20-inch-diameter pipeline which loops ³ Paiute's mainline between the Lovelock LNG plant and Paiute's existing Wadsworth Pressure Limiting Station. This loop is also leased from PSRC;

³ A loop is a segment of pipeline installed adjacent to an existing pipeline and connected to it at both ends. The loop allows more gas to be moved through the system.

• Modify existing aboveground valve assembly facilities, including the:

—Compressor Station 6 Valve Assembly at about MP 164.4 in Pershing County, Nevada;

—Chimney Rock Valve Assembly at about MP 183.9 in Pershing County, Nevada;

—Brady Hot Springs Valve Assembly at about MP 199.5 in Churchill County, Nevada;

—Pyramid Indian Reservation Valve Assembly at about MP 219.4 in Washoe County, Nevada; and

—Wadsworth Pressure Limiting Station at about MP 225.5 in Washoe County, Nevada; and

—Construct, own, operate, and maintain a new 3,747 horsepower (hp) compressor station near Wadsworth, at about MP 224.0 in Washoe County, Nevada.

Paiute has proposed two options for the abandonment of the facilities leased from PSRC. One option would be to leave the facilities in an inactive state, with all natural gas purged from the LNG plant and loop. The loop would be cut and capped, and the connections between the loop and Paiute's mainline would be removed at four valve assembly sites. The second option would be to leave the leased facilities in an active state, with PSRC taking over operation of the LNG plant and loop. In this case, Paiute would need to install inlet and outlet piping at the LNG plant, Compressor Station 6 Valve Assembly, and at the Wadsworth Pressure Limiting Station. PSRC would need to install custody metering and pressure limiting facilities at the same locations, plus odorization facilities at the LNG plant. Paiute's proposed new Wadsworth Compressor Station would add 27,154 dekatherms per day, or 26.7 million cubic feet per day, to the capacity of its mainline system, making up the deficit lost by abandonment of the LNG facility and loop. Paiute's lease of the LNG plant and associated loop terminates in July 2005. Paiute would like to have the proposed facilities constructed and in service prior to the winter of 2005-2006.

Paiute's proposed Wadsworth Compressor Station would be located on privately owned land. However, Paiute's existing Compressor Station 6, Chimney Rock, and Brady Hot Spring Valve Assemblies are on land administered by the U.S. Bureau of Land Management (BLM), while its existing Pyramid Lake Indian Reservation Valve Assembly is within the Pyramid Lake Indian Reservation. The general location of the project facilities is shown in appendix 1.⁴

⁴ The appendices referenced in this notice are not being printed in the Federal Register. Copies of all appendices, other than appendix 1 (maps), are available on the Commission's website at the “eLibrary” link or from the Commission's Public Reference and Files Maintenance Branch, 888 First Street, NE., Washington, DC 20426, or call (202) 502-8371. For instructions on connecting to eLibrary refer to the last page of this notice. Copies of the appendices were sent to all those receiving this notice in the mail. Requests for detailed maps of the proposed facilities should be made directly to Paiute.

Land Requirements for Construction

Construction of the proposed facilities would affect a total of about 12.2 acres. Operation of the facilities would require about 1.3 acres total. Construction of Paiute's Wadsworth Compressor Station would affect about 11.7 acres, of which 1.3 acres would be needed for operation of the facility. Most of the modifications at Paiute's existing aboveground valve assemblies would be done within the existing fenced permanent right-of-way. However, modifications at three existing Paiute facilities may affect about 0.5 acre total temporarily during construction. The land temporarily impacted during construction of these facilities would afterwards be restored to its previous condition and use.

The Scoping Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this NOI, the Commission requests public comments on the scope of the issues it will address in the EA. All comments received are considered during the preparation of the EA. To ensure your comments are considered, please carefully follow the instructions in the public participation section of this NOI.

Our independent analysis of environmental issues will be in the EA. Depending on the comments received during the scoping process, the EA may be published and mailed to Federal, State, and local agencies, affected and adjacent landowners, environmental and public interest groups, interested individuals and Indian tribes, local newspapers and libraries, and the Commission's official service list for this proceeding. A comment period will be allotted for review if the EA is published. We will consider all comments on the EA before we make our recommendations to the Commission.

Currently Identified Environmental Issues

We have already identified several issues that we think deserve attention based on a preliminary review of the proposed facilities and the environmental information provided by Paiute. This preliminary list of issues may be changed based on your comments and our analysis.

• Geology and Soils:

—Seismic hazards related to the location of facilities in areas of high earthquake potential.

• Water Resources and Wetlands:

—Assessment of impacts on any streams and wetlands.

• Fish, Wildlife, and Vegetation:

—Permanent clearing of vegetation for operation of new aboveground facilities.

—Potential effects on the bald eagle, a federally-listed threatened species.

• Cultural Resources:

—Avoidance of archaeological sites which may potentially qualify for the National Register of Historic Places.

—Native American and tribal concerns.

• Land Use, Recreation and Special Interest Areas, and Visual Resources:

—Assessment of land use and visual compatibility of the proposed facilities with Federal and tribal land owners, including the BLM and the Pyramid Lake Indian Reservation.

• Air and Noise Quality:

—Effects on local air quality and noise environment from construction and operation of proposed facilities.

• Reliability and Safety:

—Assessment of hazards associated with the abandonment of the Lovelock LNG plant.

• Alternatives:

—Assessment of the no action alternative, system alternatives, and alternative facility locations.

Public Participation

You can make a difference by providing us with your specific comments or concerns about the project. By becoming a commentor, your concerns will be addressed in the EA and considered by the Commission. You should focus on the potential environmental effects of the proposal, alternatives to the proposal (including alternative facility locations), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426;

• Label one copy of the comments for the attention of Gas Branch 3;

• Reference Docket No. CP04-343-000; and

• Mail your comments so that they will be received in Washington, DC on or before July 30, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

If you do not want to send comments at this time but still want to remain on our environmental mailing list, please return the Information Request (appendix 3). If you do not return the Information Request, you will be taken off the mailing list.

Site Visit

We will also be conducting a site visit to the proposed location of Paiute's Wadsworth Compressor Station, on Monday, July 12, 2004. Anyone interested in participating in the site visit should meet at the parking lot for the Best Western Airport Plaza, 1981 Terminal Way, Reno, Nevada 89502, at 12 p.m. (noon) on July 12, 2004. Participants must provide their own transportation. For additional information, please contact the Commission's Office of External Affairs at (202) 502-8004.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to rule 214 of the Commission's rules of practice and procedure (18 CFR 385.214) (see appendix 2).⁵ Only intervenors have the right to seek rehearing of the Commission's decision.

⁵ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E4-1443 Filed 6-29-04; 8:45 am]

BILLING CODE 6717-01-P